ENVIRONMENTAL PROTECTION AGENCY

[FRL-8289-8]

Clean Air Act Operating Permit Program; Petition for Objection to State Operating Permit for Public Service Company, Fort Saint Vrain Station

AGENCY: Environmental Protection Agency (EPA).

ACTION: Notice of final action.

SUMMARY: This document announces that the EPA Administrator has responded to a citizen petition asking EPA to object to an operating permit issued by the Colorado Department of Public Health and Environment (CDPHE). Specifically, the Administrator has partially granted and partially denied the August 6, 2005 petition, submitted by Jeremy Nichols (Petitioner), to object to the July 1, 2005 operating permit issued to Public Service Company, Fort Saint Vrain Station (Ft. St. Vrain).

Pursuant to section 505(b)(2) of the Clean Air Act (Act), Petitioners may seek judicial review of those portions of the petitions which EPA denied in the United States Court of Appeals for the appropriate circuit. Any petition for review shall be filed within 60 days from the date this notice appears in the Federal Register, pursuant to section 307 of the Act.

ADDRESSES: You may review copies of the final order, the petition, and other supporting information at the EPA Region 8 Office, 1595 Wynkoop Street, Denver, Colorado 80202-1129. EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before visiting day. Additionally, the final order for Public Service Company, Fort Saint Vrain Station is available electronically at: http://www.epa.gov/region7/programs/artd/air/title5/petitiondb/petitions/fort_st_vrain_decision2005.pdf.

FOR FURTHER INFORMATION CONTACT: Donald Law, Office of Partnerships and Regulatory Assistance, EPA, Region 8, 1595 Wynkoop Street, Denver, Colorado 80202-1129, (303) 312-7015, law.donald@epa.gov.

SUPPLEMENTARY INFORMATION: The Act affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issues arose after this period.

On August 6, 2005, the EPA received a petition from Jeremy Nichols requesting that EPA object to the issuance of the Title V operating permit to the Public Service Company, Fort Saint Vrain Station for the following reasons: (I) The operating permit fails to require appropriate best available control technology for NOX emissions; (II) the operating permit fails to ensure compliance with NOX concentration limits and/or fails to adopt enforceable limits; (III) the operating permit fails to subject T004 in simple cycle mode to Compliance Assurance Monitoring (CAM) requirements for NOX emissions; (IV) the operating permit fails to require opacity monitoring; (V) the operating permit sets unenforceable CO emission limits and/or fails to ensure compliance with CO limits; and (VI) concerns on eight specific permit conditions.

On February 5, 2007, the Administrator issued an order partially granting and partially denying the petition. The order explains the reasons behind EPA's conclusion to partially grant and partially deny the petition for objection.

Dated: February 28, 2007.
Kerrigan G. Clough,
Acting Regional Administrator, Region 8.

[FR Doc. E7-5163 Filed 3-20-07; 8:45 am]

BILLING CODE 6560-50-P